DEPARTMENT OF COMMERCE

National Oceanic and Atmospheric Administration

50 CFR Part 300

[Docket No. 210224-0030]

RIN 0648-BH59

International Fisheries; Eastern Pacific Tuna Fisheries; Western and Central Pacific Fisheries for Highly Migratory Species; Area of Overlap Between the Convention Areas of the Inter-American Tropical Tuna Commission and the Western and Central Pacific Fisheries Commission

AGENCY: National Marine Fisheries Service (NMFS), National Oceanic and Atmospheric Administration (NOAA), Commerce.

ACTION: Final rule; date of effectiveness for collection-of-information requirements.

SUMMARY: NMFS announces approval by the Office of Management and Budget (OMB) of revisions to collection-of-information requirements published in a final rule on June 22, 2020 (June 2020 Final Rule). The June 2020 Final Rule revised the management regime for U.S. fishing vessels that target tunas and other highly migratory species (HMS) in the area of overlapping jurisdiction in the Pacific Ocean between the Inter-American Tropical Tuna Commission (IATTC) and the Commission for the Conservation and Management of Highly Migratory Fish Stocks in the Western and Central Pacific Ocean (WCPFC) and revised the reporting and recordkeeping requirements applicable in that area. The June 2020 Final Rule did not include an effective date for those changes because OMB had not yet approved the collection-of-information revisions. This final rule announces OMB approval of the revisions to the collection-of-information requirements under OMB Control Numbers 0648-0649 and 0648-0218 and an effective date for the revisions to reporting requirements included in the June 2020 Final Rule.

DATES: This final rule is effective March 23, 2021. The amendment in instruction 7 to 50 CFR 300.218, published at 85 FR 37376 (June 22, 2020), is effective on March 23, 2021.

ADDRESSES: Written comments regarding the burden-hour estimates or other aspects of the collection-of-information requirements contained in this final rule may be submitted to Michael D. Tosatto, Regional Administrator, NMFS, Pacific Islands Regional Office (PIRO), 1845 Wasp Blvd., Building 176, Honolulu, HI 96818 and to www.reginfo.gov/public/do/PRAMain. Find this particular information collection by selecting “Currently under 30-day Review—Open for Public Comments” or by using the search function.

FOR FURTHER INFORMATION CONTACT: Emily Reynolds, NMFS PIRO, 808-725-5039.

SUPPLEMENTARY INFORMATION: Under authority of the Western and Central Pacific Fisheries Convention Implementation Act (WCPFC Implementation Act; 16 U.S.C. 6901 et seq.) and the Tuna Conventions Act (16 U.S.C. 951 et seq.), NMFS implemented changes in management of the area of overlapping jurisdiction between the IATTC and the WCPFC (overlap area), in accordance with WCPFC and IATTC decisions regarding the overlap area (June 2020 Final Rule).

Background

The June 2020 Final Rule changes management of the overlap area so that all NMFS regulations implementing IATTC resolutions apply in the overlap area and some regulations implementing WCPFC decisions apply in the overlap area. The June 2020 Final Rule revised certain recordkeeping and reporting requirements so that they no longer apply in the overlap area. Specifically, the transshipment reporting requirements at 50 CFR 300.218(b) and (d), the discard reporting requirements at 50 CFR 300.218(e), the net sharing reporting requirements at 50 CFR 300.218(f), the daily purse seine fishing effort reports at 50 CFR 300.218(g), and the whale shark reporting requirements at 50 CFR 300.218(h) no longer apply in the overlap area. A more detailed description of these changes can be found in the June 2020 Final Rule. The June 2020 Final Rule was published in the Federal Register on June 22, 2020 (85 FR 37376), and the associated regulations are found at 50 CFR part 300. Other than the changes to the collection-of-information requirements at 50 CFR 300.218, the requirements of the June 2020 Final Rule entered into effect on July 22, 2020. On November 10, 2020, OMB approved the collection-of-information requirements contained in the June 2020 Final Rule under OMB Control Numbers 0648-0649 and 0648-0218, which specified that certain reporting and recordkeeping requirements no longer apply in the overlap area. Other existing collection-of-information requirements under OMB Control Numbers 0648-0148, 0648-0595, and 0648-0204 continue to apply in the overlap area. Accordingly, this final rule announces the approval and effective date of the changes to the reporting requirements found in the regulations at 50 CFR 300.218(c), (d), (e), (f), (g), and (h), and reflected in OMB Control Numbers 0648-0649 and 0648-0218.

Classification

The Administrator, Pacific Islands Region, NMFS, has determined that this final rule is consistent with the WCPFC Implementation Act, and other applicable laws.

Administrative Procedure Act (APA)

Pursuant to 5 U.S.C. 553(b)(B), there is good cause to waive prior notice and opportunity for public comment for this action because notice and comment would be unnecessary and contrary to the public interest. This action simply provides notice of OMB's approval of the changes to the reporting requirements, which were described in the proposed rule (84 FR 60040; November 7, 2019) and the June 2020 Final Rule (85 FR 37376; June 22, 2020). Thus, this action does not involve any further exercise of agency discretion by NMFS or OMB. Moreover, the public has had prior notice and the opportunity to comment on the collection-of-information requirements. NMFS published a proposed rule including some of the changes to the collection-of-information requirements (84 FR 60040; November 7, 2019), with comments accepted until November 22, 2019. No comments were received relating to the changes to collection-of-information requirements. The June 2020 Final Rule (85 FR 37376; June 22, 2020) included additional changes to the collection-of-information requirements. As explained in the June 2020 Final Rule, the transshipment reporting requirements at 50 CFR 300.218(b) and (d), the discard reporting requirements at 50 CFR 300.218(e), the net sharing reporting requirements at 50 CFR 300.218(f), the daily purse seine fishing effort reports at 50 CFR 300.218(g), and the whale shark reporting requirements at 50 CFR 300.218(h) no longer apply in the overlap area. The whale shark reporting requirements were described as no longer applicable in the overlap area under the proposed rule. However, the other requirements listed are changes from the proposed rule in response to comments on the proposed rule. In addition, the June 2020 Final Rule indicated that this final rule would be published to announce the effective date for the reporting requirements upon OMB approval of OMB Control Numbers 0648-0649 and 0648-0218.

Because this rule relieves a restriction by putting into effect changes to certain reporting requirements so that they no longer apply in the overlap area, it is not subject to the 30-day delayed effectiveness provision of the APA pursuant to 5 U.S.C. 553(d)(1).

Executive Order 12866

The June 2020 Final Rule that amended the requirements at 50 CFR 300.218 was determined to be not significant for purposes of Executive Order 12866. The June 2020 Final Rule removed certain regulations from application in the overlap area and revised certain reporting requirements so that they no longer apply in the overlap area. This final rule makes effective the revisions to reporting requirements for which the effective date was delayed in the June 2020 Final Rule.

Regulatory Flexibility Act

Because prior notice and opportunity for public comment are not required for this rule by 5 U.S.C. 553, or any other law, the analytical requirements of the Regulatory Flexibility Act, 5 U.S.C. 601 et seq., are inapplicable to this particular action. However, we note that, as described in the proposed rule and the June 2020 Final Rule, an initial regulatory flexibility analysis and final regulatory flexibility analysis were prepared and published for the regulatory changes that would go into effect with this final rule. Please see 84 FR 60040, published November 7, 2019 and 85 FR 37376, published June 22, 2020.

Paperwork Reduction Act

This final rule contains collection-of-information requirements, which are subject to the Paperwork Reduction Act (PRA), and which OMB approved under OMB Control Numbers 0648-0649 and 0648-0218. Specifically, the purse seine discard reporting requirements, purse seine net sharing reporting requirements, and purse seine daily effort reports at 50 CFR 300.218 no longer apply in the overlap area. The transshipment reporting requirements and transshipment notice requirements at 50 CFR 300.218 no longer apply in the overlap area to transshipment of fish caught in the overlap area, but continue to apply to fish caught in other parts of the area of application of the Convention on the Conservation of Highly Migratory Species in the Western and Central Pacific Ocean and transshipped in the overlap area. The purse seine whale shark encirclement reporting requirements at 50 CFR 300.218 also no longer apply in the overlap area, but similar reporting requirements at 50 CFR 300.22 do apply. Because this final rule makes effective certain changes to reporting and recordkeeping requirements so that they no longer apply in the overlap area, this final rule would not affect the estimated public reporting burden of these collections. Written comments regarding the burden-hour estimates or other aspects of the collection-of-information requirements contained in this final rule may be submitted to NMFS (see ADDRESSES) and to www.reginfo.gov/public/do/PRAMain. Find this particular information collection by selecting “Currently under 30-day Review—Open for Public Comments” or by using the search function.

Notwithstanding any other provision of the law, no person is required to respond to, and no person shall be subject to penalty for failure to comply with, a collection-of-information subject to the requirements of the PRA, unless that collection-of-information displays a currently valid OMB control number. All currently approved NOAA collections of information may be viewed at https://www.cio.noaa.gov/services_programs/prasubs.html.

Authority: 16 U.S.C. 6901 et seq.

Dated: March 15, 2021.
Samuel D. Rauch, III,
Deputy Assistant Administrator for Regulatory Programs, National Marine Fisheries Service.

[FR Doc. 2021-05679 Filed 3-22-21; 8:45 am]

BILLING CODE 3510-22-P